DEPARTMENT OF TRANSPORTATION

Office of the Secretary

Notice of Applications for Certificates of Public Convenience and Necessity and Foreign Air Carrier Permits Filed Under Subpart Q During the Week Ending February 25, 2000

The following Applications for Certificates of Public Convenience and Necessity and Foreign Air Carrier Permits were filed under Subpart Q of the Department of Transportation's Procedural Regulations (See 14 CFR 302.1701 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2000-6962.

Date Filed: February 22, 2000.

Due Date for Answers, Conforming Applications, or Motions to Modify Scope: March 21, 2000.

Description: Application of the Flight International Group, Inc. (“Flight International” or “Group”), Flight Alaska, Inc. (“Flight Alaska”), and Yute Air Alaska, Inc. (”Yute”) pursuant to 49 U.S.C. 41105 and Subpart Q, jointly seek expedited approval by the Department of Transportation, of the transfer of Yute's Certificate of Public Convenience and Necessity to Flight Alaska d/b/a Yute Air Alaska.

Docket Number: OST-2000-6978.

Date Filed: February 24, 2000.

Due Date for Answers, Conforming Applications, or Motions to Modify Scope: March 23, 2000.

Description: Application of Servicios Aereos Profesionales, Inc. pursuant to 49 U.S.C. 41102 and Subpart Q, requests a Certificate of Public Convenience and Necessity to engage in Foreign Scheduled Air Transportation of persons, property and mail.

Docket Number: OST-2000-6979.

Date Filed: February 24, 2000.

Due Date for Answers, Conforming Applications, or Motions to Modify Scope: March 23, 2000.

Description: Application of Servicios Aereos Profesionales, Inc. pursuant to 49 U.S.C. 41102 and Subpart Q, requests a Certificate of Public Convenience and Necessity authorizing Interstate Scheduled Air Transportation of person, property and mail.

Dorothy W. Walker,
Federal Register Liaison.

[FR Doc. 00-7463 Filed 3-24-00; 8:45 am]

BILLING CODE 4910-62-P